DEPARTMENT OF HOMELAND SECURITY

Coast Guard

33 CFR Part 100

[Docket No. USCG-2015-0571]

Special Local Regulation; Annual Marine Events on the San Diego Bay, Within the San Diego Captain of the Port Zone

AGENCY: Coast Guard, DHS.

ACTION: Notice of enforcement of regulation.

SUMMARY: The Coast Guard will enforce a marine event special local regulation on the navigable waters of Mission Bay, San Diego, CA in support of the annual San Diego Bayfair from September 18, 2015 to September 20, 2015, from 7 a.m. to 6 p.m. This action is necessary to provide for the safety of the participants, crew, spectators, safety vessels, and general users of the waterway. During the enforcement period, persons and vessels are prohibited from entering into, transiting through, or anchoring within this regulated area unless authorized by the Captain of the Port, or his designated representative.

DATES: The special local regulations listed in 33 CFR 100.1101, Table 1, Item 12, will be enforced from 7 a.m. to 6 p.m. from September 18, 2015 to September 20, 2015.

FOR FURTHER INFORMATION CONTACT: If you have questions on this publication, call or email Petty Officer Nick Bateman, Waterways Management, U.S. Coast Guard Sector San Diego, CA; telephone (619) 278-7656, email D11-PF-MarineEventsSanDiego@uscg.mil.

SUPPLEMENTARY INFORMATION: The Coast Guard will enforce the marine event special local regulation for the annual San Diego Bayfair in 33 CFR 100.1101, Table 1, Item 12 from September 18, 2015 to September 20, 2015, from 7 a.m. to 6 p.m.

Under the provisions of 33 CFR 100.1101, persons and vessels are prohibited from entering into, transiting through, or anchoring within this regulated area of the Mission Bay unless authorized by the Captain of the Port, or his designated representative. The Coast Guard may be assisted by other Federal, State, or local law enforcement agencies in enforcing this regulation.

This document is issued under authority 33 CFR 100.1101 and 5 U.S.C. 552(a). In addition to this document in the Federal Register, the Coast Guard will provide the maritime community with advance notification of this enforcement period via the Local Notice to Mariners, Broadcast Notice to Mariners, and local advertising by the event sponsor.

If the Coast Guard determines that the regulated area need not be enforced for the full duration stated on this document, then a Broadcast Notice to Mariners or other communications coordinated with the event sponsor will grant general permission to enter the regulated area.

Dated: July 14, 2015.
J. S. Spaner,
Captain, U.S. Coast Guard, Captain of the Port San Diego.

[FR Doc. 2015-18458 Filed 7-27-15; 8:45 am]

BILLING CODE 9110-04-P